DEPARTMENT OF COMMERCE

National Oceanic and Atmospheric Administration

RIN 0648-XC136

Marine Mammals; File No. 17152

AGENCY: National Marine Fisheries Service (NMFS), National Oceanic and Atmospheric Administration (NOAA), Commerce.

ACTION: Notice; issuance of permit.

SUMMARY: Notice is hereby given that a permit has been issued to PRBO Conservation Science, 3820 Cypress Drive, #11, Petaluma, CA 94954 (Responsible Party: Russell Bradley) to conduct research on pinnipeds in California.

ADDRESSES: The permit and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Amy Sloan or Tammy Adams, (301) 427-8401.

SUPPLEMENTARY INFORMATION: On August 13, 2012, notice was published in the Federal Register (77 FR 48130) that a request for a permit to conduct research on pinnipeds had been submitted by the above-named applicant. The requested permit has been issued under the authority of the Marine Mammal Protection Act of 1972, as amended (16 U.S.C. 1361 et seq.), and the regulations governing the taking and importing of marine mammals (50 CFR part 216).

The permit holder is authorized to monitor population trends, health, and ecology of pinnipeds in California over a five-year period. To accomplish this, researchers are authorized to capture, sedate, sample, mark, instrument, photo-identify and incidentally harass harbor seals (Phoca vitulina richardii). Ten mortalities of harbor seals over the duration of the permit are authorized. Researchers are authorized to capture, mark, weigh, and sample (swabs and blood) northern elephant seals (Mirounga angustirostris); and incidentally harass elephant seals during captures and ground monitoring/photo-identification. Researchers are authorized to harass California sea lions (Zalophus californianus) and northern fur seals (Callorhinus ursinus) during ground surveys and photo-identification.

In compliance with the National Environmental Policy Act of 1969 (42 U.S.C. 4321 et seq.), a final determination has been made that the activity proposed is categorically excluded from the requirement to prepare an environmental assessment or environmental impact statement.

Dated: December 7, 2012.
P. Michael Payne,
Chief, Permits and Conservation Division, Office of Protected Resources, National Marine Fisheries Service.

[FR Doc. 2012-29935 Filed 12-11-12; 8:45 am]

BILLING CODE 3510-22-P